DEPARTMENT OF COMMERCE

International Trade Administration

[A-588-850, A-588-851, A-485-805]

Certain Large Diameter Carbon and Alloy Seamless Standard, Line and Pressure Pipe From Japan; Certain Small Diameter Carbon and Alloy Seamless Standard, Line and Pressure Pipe From Japan and Romania: Final Results of the Expedited Third Five-Year Sunset Reviews of the Antidumping Duty Orders

AGENCY: Enforcement and Compliance, International Trade Administration, Department of Commerce.

DATES: Effective December 21, 2016.

SUMMARY: As a result of these sunset reviews, the Department of Commerce (the Department) finds that revocation of the antidumping duty orders on certain large diameter carbon and alloy seamless standard, line and pressure pipe (large diameter pipe) from Japan and certain small diameter carbon and alloy seamless standard, line and pressure pipe (small diameter pipe) from Japan and Romania would likely lead to a continuation or recurrence of dumping at the margins identified in the “Final Results of Review” section of this notice.

FOR FURTHER INFORMATION CONTACT: Thomas Schauer, AD/CVD Operations, Office I, Enforcement and Compliance, International Trade Administration, U.S. Department of Commerce, 1401 Constitution Avenue NW., Washington, DC 20230; telephone (202) 482-0410.

SUPPLEMENTARY INFORMATION:

Background

On September 1, 2016, the Department published the notice of initiation of the third sunset reviews of the antidumping duty orders on large diameter pipe from Japan and small diameter pipe from Japan and Romania, pursuant to section 751(c) of the Tariff Act of 1930, as amended (the Act).¹ The Department received notices of intent to participate in both of the Japan reviews from TMK IPSCO, Vallourec Star, L.P. (Vallourec), and United States Steel Corporation (U.S. Steel), domestic interested parties (collectively, the petitioners) and a notice of intent to participate in the Romania review from Vallourec and U.S. Steel, within the deadline specified in 19 CFR 351.218(d)(1)(i). The petitioners claimed interested party status for each of these reviews under section 771(9)(C) of the Act, as manufacturers of the domestic like product in the United States.

¹ See Initiation of Five-Year (“Sunset”) Review, 81 FR 60343 (September 1, 2016).

On October 3, 2016, the Department received a complete substantive response from the petitioners for each of the reviews within the deadline specified in 19 CFR 351.218(d)(3)(i). We received no substantive responses from any respondent interested parties. As a result, pursuant to section 751(c)(3)(B) of the Act and 19 CFR 351.218(e)(1)(ii)(C)(2), the Department conducted expedited sunset reviews of these antidumping duty orders.

Scope of the Orders

Large Diameter Pipe From Japan

The products covered by this order are large diameter seamless carbon and alloy (other than stainless) steel standard, line, and pressure pipes. The seamless pipes subject to this order are currently classifiable under the subheadings 7304.10.10.30, 7304.10.10.45, 7304.10.10.60, 7304.10.50.50, 7304.19.10.30, 7304.19.10.45, 7304.19.10.60, 7304.19.50.50, 7304.31.60.10, 7304.31.60.50, 7304.39.00.04, 7304.39.00.06, 7304.39.00.08, 7304.39.00.36, 7304.39.00.40, 7304.39.00.44, 7304.39.00.48, 7304.39.00.52, 7304.39.00.56, 7304.39.00.62, 7304.39.00.68, 7304.39.00.72, 7304.51.50.15, 7304.51.50.45, 7304.51.50.60, 7304.59.20.30, 7304.59.20.55, 7304.59.20.60, 7304.59.20.70, 7304.59.60.00, 7304.59.80.30, 7304.59.80.35, 7304.59.80.40, 7304.59.80.45, 7304.59.80.50, 7304.59.80.55, 7304.59.80.60, 7304.59.80.65, and 7304.59.80.70 of the Harmonized Tariff Schedule of the United States (HTSUS). The HTSUS subheading is provided for convenience and customs purposes. The written product description remains dispositive.²

² A full description of the scope of the order is contained in the Memorandum from Deputy Assistant Secretary Christian Marsh to Assistant Secretary Paul Piquado, “Issues and Decision Memorandum for the Final Results of the Expedited Sunset Reviews of the Antidumping Duty Orders on Certain Large Diameter Carbon and Alloy Seamless Standard, Line and Pressure Pipe from Japan (A-588-850), Certain Small Diameter Carbon and Alloy Seamless Standard, Line and Pressure Pipe from Japan (A-588-851) and Romania (A-485-805),” dated concurrently with and hereby adopted by this notice (Issues and Decision Memorandum).

Small Diameter Pipe From Japan and Romania

The products covered by these orders include small diameter seamless carbon and alloy (other than stainless) steel standard, line, and pressure pipes and redraw hollows. The seamless pipes subject to these orders are currently classifiable under the subheadings 7304.10.10.20, 7304.10.50.20, 7304.19.10.20, 7304.19.50.20, 7304.31.30.00, 7304.31.60.50, 7304.39.00.16, 7304.39.00.20, 7304.39.00.24, 7304.39.00.28, 7304.39.00.32, 7304.51.50.05, 7304.51.50.60, 7304.59.60.00, 7304.59.80.10, 7304.59.80.15, 7304.59.80.20, and 7304.59.80.25 of the HTSUS. The HTSUS subheading is provided for convenience and customs purposes. The written product description remains dispositive.³

³ See Issues and Decision Memorandum.

Analysis of Comments Received

All issues raised in these reviews, including the likelihood of continuation or recurrence of dumping and the magnitude of the margins likely to prevail if the orders were revoked, are addressed in the Issues and Decision Memorandum. The Issues and Decision Memorandum is a public document and is on file electronically via Enforcement and Compliance's Antidumping and Countervailing Duty Centralized Electronic Service System (ACCESS). ACCESS is available to registered users at http://access.trade.gov, and to all parties in the Central Records Unit, room B8024 of the main Department of Commerce building. In addition, a complete version of the Decision Memorandum can be accessed directly on the Internet at http://enforcement.trade.gov/frn.

Final Results of Sunset Reviews

Pursuant to sections 751(c)(1) and 752(c)(1), (2), and (3) of the Act, the Department determines that revocation of the order on large diameter pipe from Japan and the orders on small diameter pipe from Japan and Romania would be likely to lead to continuation or recurrence of dumping up to the following weighted-average margin percentages:

Country | Weighted- average margin (percent)
Japan (Large Diameter) | 107.80
Japan (Small Diameter) | 106.07
Romania (Small Diameter) | 14.25

Notification to Interested Parties

This notice also serves as the only reminder to parties subject to administrative protective order (APO) of their responsibility concerning the return or destruction of proprietary information disclosed under APO in accordance with 19 CFR 351.305. Timely notification of the return or destruction of APO materials or conversion to judicial protective orders is hereby requested. Failure to comply with the regulations and terms of an APO is a violation which is subject to sanction.

We are issuing and publishing these final results and notice in accordance with sections 751(c), 752(c), and 777(i)(1) of the Act and 19 CFR 351.218.

Dated: December 15, 2016.
Christian Marsh,
Deputy Assistant Secretary for Antidumping and Countervailing Duty Operations.

Appendix—List of Topics Discussed in the Issues and Decision Memorandum

I. Summary

II. Background

III. Scope of the Orders

IV. History of the Orders

V. Legal Framework

VI. Discussion of the Issues

1. Likelihood of Continuation or Recurrence of Dumping

2. Magnitude of the Margins Likely To Prevail

VII. Final Results of Sunset Reviews

VIII. Recommendation

[FR Doc. 2016-30732 Filed 12-20-16; 8:45 am]

BILLING CODE 3510-DS-P